DEPARTMENT OF TRANSPORTATION

Office of the Secretary

2 CFR Part 1201

[Docket DOT-OST-2015-0013]

RIN 2105-AE38

Geographic-Based Hiring Preferences in Administering Federal Awards

AGENCY: Office of the Secretary (OST), Department of Transportation (DOT).

ACTION: Extension of comment period on proposed rule.

SUMMARY: This action extends the comment period for the Notice of Proposed Rulemaking (NPRM) proposing to amend the DOT's implementation of the Government-wide Uniform Administrative Requirements, Cost Principles, and Audit Requirements for Federal Awards to permit recipients and subrecipients to impose geographic-based hiring preferences whenever not otherwise prohibited by Federal statute. This NPRM was published in the Federal Register on March 6, 2015, at 80 FR 12092. We are extending the end of the comment period from April 6, 2015, to May 6, 2015. The extension of the comment period is intended to provide all interested parties sufficient time prior to submit comments to the docket for this proposed rulemaking.

DATES: Comments must be received by May 6, 2015. Comments received after this date will be considered to the extent practicable.

ADDRESSES: You may file comments identified by the docket number DOT-OST-2015-0013 by any of the following methods:

• Federal eRulemaking Portal: go to http://www.regulations.gov and follow the online instructions for submitting comments.

• Mail: Docket Management Facility, U.S. Department of Transportation, 1200 New Jersey Ave. SE., Room W12-140, Washington, DC 20590-0001.

• Hand Delivery or Courier: West Building Ground Floor, Room W12-140, 1200 New Jersey Ave. SE., between 9:00 a.m. and 5:00 p.m. ET, Monday through Friday, except Federal Holidays.

• Fax: (202) 493-2251.

Instructions: You must include the agency name and docket number DOT-OST-2015-0013 or the Regulatory Identification Number, RIN No. 2105-AE11, for the rulemaking at the beginning of your comment. All comments received will be posted without change to http://www.regulations.gov, including any personal information provided.

Privacy Act: Anyone is able to search the electronic form of all comments received in any of our dockets by the name of the individual submitting the comment (or signing the comment if submitted on behalf of an association, a business, a labor union, etc.). You may review DOT's complete Privacy Act statement in the Federal Register published on April 11, 2000 (65 FR 19477-78), or you may visit http://Docketslnfo.dot.gov.

Docket: For access to the docket to read background documents or comments received, go to http://www.regulations.gov or to the street address listed above. Follow the online instructions for accessing the docket.

FOR FURTHER INFORMATION CONTACT: Michael Harkins, Deputy Assistant General Counsel for General Law (OST-C10), U.S. Department of Transportation, 1200 New Jersey Ave. SE., Washington, DC 20590, 202-366-0590.

SUPPLEMENTARY INFORMATION: On March 6, 2015, the Department published a NPRM proposing to amend the DOT's implementation of the Government-wide Uniform Administrative Requirements, Cost Principles, and Audit Requirements for Federal Awards to permit recipients and subrecipients to impose geographic-based hiring preferences whenever not otherwise prohibited by Federal statute. On March 13, the American Public Transportation Association (APTA) posted a comment requesting DOT extent the comment period for this NPRM by 30 days to May 6. With this notice, the DOT is granting this request by further extending the comment period to May 6.

The DOT has also received a comment to the docket asking whether this proposed rule applies to rolling stock. The DOT specifically requests comments on this issue and whether the DOT should clarify the proposed rule's application to the procurement of rolling stock.

Issued this 1st day of April, 2015, in Washington, DC.
Kathryn B. Thomson,
General Counsel.

[FR Doc. 2015-08084 Filed 4-7-15; 8:45 am]

BILLING CODE 4910-9X-P